DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of October 24, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Bay County, Florida and Incorporated Areas
Docket No.: FEMA-B-2157
City of Callaway | Planning and Zoning Department, 324 South Berthe Avenue, Callaway, FL 32404.
City of Lynn Haven | Planning and Zoning Department, 825 Ohio Avenue, Lynn Haven, FL 32444.
City of Mexico Beach | City Hall, 201 Paradise Path, Mexico Beach, FL 32456.
City of Panama City | Planning Department, 501 Harrison Avenue, Panama City, FL 32401.
City of Panama City Beach | Building Department, 116 South Arnold Road, Panama City Beach, FL 32413.
City of Parker | City Hall, 1001 West Park Street, Parker, FL 32404.
City of Springfield | City Hall, 408 School Avenue, Springfield, FL 32401.
Unincorporated Areas of Bay County | Bay County Planning and Zoning Department, 840 West 11th Street, Panama City, FL 32401.
Boulder County, Colorado and Incorporated Areas
Docket No.: FEMA-B-2011 and B-2069
City of Boulder | Park Central, 1739 Broadway, Boulder, CO 80302.
City of Longmont | Development Services Center, 385 Kimbark Street, Longmont, CO 80501.
Town of Erie | Town Hall, 645 Holbrook Street, Erie, CO 80516.
Town of Jamestown | Town Hall, 118 Main Street, Jamestown, CO 80455.
Town of Lyons | Town Hall, 432 5th Avenue, Lyons, CO 80540.
Town of Nederland | Town Hall, 45 West 1st Street, Nederland, CO 80466.
Town of Superior | Public Works and Utilities Department, 405 Center Drive, Suite E, Superior, CO 80027.
Town of Ward | Town Hall, 1 Columbia Street, Ward, CO 80481.
Unincorporated Areas of Boulder County | Boulder County Community Planning and Permitting Department, 2045 13th Street, Boulder, CO 80302.
Summers County, West Virginia and Incorporated Areas
Docket No.: FEMA-B-2360
City of Hinton | City Hall, 322 Summers Street, Hinton, WV 25951.
Unincorporated Areas of Summers County | Summers County Courthouse, 120 Ballengee Street, Suite 203, Hinton, WV 25951.
Milwaukee County, Wisconsin (All Jurisdictions)
Docket No.: FEMA-B-2318
City of Cudahy | City Hall, 5050 South Lake Drive, Cudahy, WI 53110.
City of Franklin | City Hall, 9229 West Loomis Road, Franklin, WI 53132.
City of Glendale | City Hall, 5909 North Milwaukee River Parkway, Glendale, WI 53209.
City of Greenfield | City Hall, 7325 West Forest Home Avenue, Greenfield, WI 53220.
City of Milwaukee | City Hall, 200 East Wells Street, Milwaukee, WI 53202.
City of Oak Creek | City Hall, 8040 South 6th Street, Oak Creek, WI 53154.
City of South Milwaukee | City Hall, 2424 15th Avenue, South Milwaukee, WI 53172.
City of St. Francis | City Hall, 3400 East Howard Avenue, St. Francis, WI 53235.
City of Wauwatosa | City Hall, 7725 West North Avenue, Wauwatosa, WI 53213.
City of West Allis | City Hall, 7525 West Greenfield Avenue, West Allis, WI 53214.
Village of Bayside | Village Hall, 9075 North Regent Road, Bayside, WI 53217.
Village of Brown Deer | Village Hall, 4800 West Green Brook Drive, Brown Deer, WI 53223.
Village of Fox Point | Village Hall, 7200 North Santa Monica Boulevard, Fox Point, WI 53217.
Village of Greendale | Village Hall, 6500 Northway Street, Greendale, WI 53129.
Village of Hales Corners | Village Hall, 5635 South New Berlin Road, Hales Corners, WI 53130.
Village of River Hills | Village Hall, 7650 North Pheasant Lane, River Hills, WI 53217.
Village of Shorewood | Village Hall, 3930 North Murray Avenue, Shorewood, WI 53211.
Village of Whitefish Bay | Village Hall, 5300 North Marlborough Drive, Whitefish Bay, WI 53217.

[FR Doc. 2024-14179 Filed 6-27-24; 8:45 am]

BILLING CODE 9110-12-P